DEPARTMENT OF COMMERCE

National Oceanic and Atmospheric Administration

50 CFR Part 648

[Docket No. 050708184-5235-02; I.D. 070105B]

RIN 0648-AT50

Fisheries of the Northeastern United States; Atlantic Bluefish and Summer Flounder Fisheries

AGENCY: National Marine Fisheries Service (NMFS), National Oceanic and Atmospheric Administration (NOAA), Commerce.

ACTION: Final rule.

SUMMARY: NMFS issues this final rule to amend the regulations implementing the Fishery Management Plan (FMP) for the Atlantic bluefish fishery and the FMP for the summer flounder, scup, and black sea bass fisheries. This rule makes administrative changes that will allow NMFS to consider and process state commercial quota transfer requests that address late-season circumstances that necessitate a state quota transfer. The intent of this action is solely to provide the flexibility to address unpredictable late-season events (such as severe weather or port obstruction) that may result in safety concerns in the commercial bluefish and summer flounder fisheries.

DATES: Effective October 13, 2005.

FOR FURTHER INFORMATION CONTACT: Sarah McLaughlin, Fishery Policy Analyst, (978) 281-9279.

SUPPLEMENTARY INFORMATION:

Background

The bluefish and summer flounder fisheries are managed cooperatively by the Atlantic States Marine Fisheries Commission (Commission) and the Mid-Atlantic Fishery Management Council (Council), in consultation with the New England and South Atlantic Fishery Management Councils. Regulations implementing the Atlantic Bluefish FMP appear at 50 CFR part 648, subparts A and J. Regulations implementing the summer flounder portion of the Summer Flounder, Scup, and Black Sea Bass FMP appear at 50 CFR part 648, subparts A and G.

NMFS published a proposed rule to amend the regulations regarding state commercial bluefish and summer flounder quota transfers on July 26, 2005 (70 FR 43111). A complete discussion of the development of this regulatory amendment appeared in the preamble of the proposed rule and is not repeated here.

The current regulations, found at §§ 648.160 and 648.100, respectively, outline a process by which a state may request written approval from the Regional Administrator to transfer all or part of its annual commercial bluefish or summer flounder quota to one or more other states. Currently, NMFS maintains a policy of considering only quota transfer requests submitted by December 15 of each year in order to ensure that a notice announcing the quota transfer could be filed with the Office of the Federal Register by the end of the year for which the request is made. However, the Council is concerned that unforeseen circumstances, such as severe weather or physical obstruction, may prevent vessels from returning safely to their intended port of landing, and that this situation has arisen and may continue to arise during the second half of December in any given year. End-of-year transfers of quota allow vessels to land in another state without causing overharvest of that state's fishing year quota, provided that both states agree to the transfer. NMFS agrees that this administrative change in the regulations will facilitate the consideration and processing of state quota transfer requests to address unpredictable late-season events and consequent safety issues in these fisheries. This rule eliminates the references to time of effectiveness in the bluefish and summer flounder quota transfer and combination regulations. With these changes, quota transfer requests addressing unforeseen conditions in either fishery that arise late in the fishing year could be approved, even if the transfer request is made in the subsequent fishing year. Any quota transfer would continue to be valid only for the calendar year for which the request is made, and would therefore have no impact on the resource or the mortality objectives of the FMPs.

Comments and Responses

NMFS received three comment letters regarding the proposed rule (70 FR 43111, July 26, 2005).

Comment 1: The State of North Carolina and a North Carolina industry association both indicated that the proposed action would address safety concerns, particularly for fishermen using Oregon Inlet, NC, and would give states the flexibility to allow fisheries to continue through transfers of quota that would otherwise not be harvested.

Response:

NMFS agrees and is implementing the proposed action in this final rule.

Comment 2: The other commenter indicated general concern about overfishing and opposition to the use of quota transfers in any fishery.

Response: As discussed above, this action is purely administrative in nature, and is taken solely to facilitate the consideration and processing of state quota transfer requests to address unpredictable late-season events in these fisheries. Any quota transfer would continue to be valid only for the calendar year (and fishing year) for which the request is made. Thus, there would be no impacts on the resource or mortality objectives of the FMPs. This action would not make any substantive change in the state commercial quota transfer request or approval process for these fisheries.

Classification

This rule has been determined to be not significant for purposes of Executive Order 12866.

The Chief Counsel for Regulation of the Department of Commerce certified to the Chief Counsel for Advocacy of the Small Business Administration during the proposed rule stage that this action would not have a significant economic impact on a substantial number of small entities. No comments were received regarding this certification. As a result, a regulatory flexibility analysis was not prepared.

List of Subjects in 50 CFR Part 648

Fisheries, Fishing, Reporting and recordkeeping requirements.

James W. Balsiger,
Acting Deputy Assistant Administrator for Regulatory Programs, National Marine Fisheries Service.

For the reasons stated in the preamble, 50 CFR part 648 is amended as follows:

PART 648—FISHERIES OF THE NORTHEASTERN UNITED STATES

1. The authority citation for part 648 continues to read as follows:

Authority: 16 U.S.C. 1801 et seq.

2. In § 648.100, revise paragraph (d)(4) to read as follows:

§ 648.100 Catch quotas and other restrictions.

* * * * *

(d) * * *

(4) The transfer of quota or the combination of quotas will be valid only for the calendar year for which the request was made.

* * * * *

3. In § 648.160, revise paragraph (f)(2) to read as follows:

§ 648.160 Catch quotas and other restrictions.

* * * * *

(f) * * *

(2) The transfer of quota or the combination of quotas will be valid only for the calendar year for which the request was made.

* * * * *

[FR Doc. 05-18088 Filed 9-12-05; 8:45 am]

BILLING CODE 3510-22-S